DEPARTMENT OF ENERGY

Federal Energy Regulatory Commission

Notice of Application for Transfer of License and Soliciting Comments, Motions To Intervene, and Protests

July 14, 2000.

Take notice that the following hydroelectric application has been filed with the Commission and is available for public inspection:

a. Application Type: Transfer of License.

b. Project No: 8436-118.

Date Filed: June 8, 2000.

Applicants: Smith Falls Hydropower and Eugene Water and Electric Board.

e. Name of Project: Smith Creek.

f. Location: The project is located on Smith Creek, a tributary of the Kootenai River, in Boundary County, Idaho. The project occupies lands of the United States within the Panhandle National Forest.

g. Filed Pursuant to: Federal Power Act, 16 U.S.C. 791(a)-825(r).

h. Applicant Contacts: Smith Falls Hydropower: David B. Van Otten, Smith Falls Hydropower, P.O. Box 1328, Bountiful, Utah 84011-1328; and Eugene Water and Electric Board: Everett Jordan, Generation Manager, 500 East 4th Avenue, P.O. Box 10148, Eugene, Oregon 97440-2148.

i. FERC Contract: Any questions on this notice should be addressed to Dave Snyder at (202) 219-2385.

j. Deadline for filing comments and or motions: August 18, 2000.

All documents (original and eight copies) should be filed with: David P. Boergers, Secretary, Federal Energy Regulatory Commission, 888 First Street, NE., Washington, DC 20426.

Please include the Project Number (8436-118) on any comments or motions filed.

k. Description of Transfer: Smith Falls Hydroelectric (transferor), licensee of the Smith Creek Project, and Eugene Water and Electric Board (transferee) jointly and severally apply for approval of the transfer of the project license to the transferee.

1. Locations of the Application: A copy of the application is available for inspection and reproduction at the Commission's Public Reference Room, located at 888 First Street, NE, Room 2A, Washington, DC 20426, or by calling (202) 208-1371. The application may be viewed on the web at www.ferc.fed.us/online/rims.htm. Call (202) 208-2222 for assistance. A copy is also available for inspection and reproduction at the address in item h above.

m. Individuals desiring to be included on the Commission's mailing list should so indicate by writing to the Secretary of the Commission.

n. This notice also consists of the following standard paragraphs: B, C1, and D2.

B. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

C1. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

D2. Agency Comments—Federal, state, and local agencies are invited to file comments on the described application. A copy of the application may be obtained by agencies directly from the Applicant. If an agency does not file comments within the time specified for filing comments, it will be presumed to have no comments. One copy of an agency's comments must also be sent to the Applicant representatives.

Linwood A. Watson, Jr.,
Acting Secretary.

[FR Doc. 00-18303 Filed 7-19-00; 8:45 am]

BILLING CODE 6717-01-M